DEPARTMENT OF AGRICULTURE

Submission for OMB Review; Comment Request

October 7, 2020.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by November 12, 2020 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Survey of Supplemental Nutrition Assistance Program (SNAP) and Work.

OMB Control Number: 0584-NEW.

Summary of Collection: The Food and Nutrition Act of 2008 (the Act), as amended in Public Law 116-94 Section 17, provides the authority to FNS to conduct research to help improve the administration operations and effectiveness of SNAP in delivering nutrition-related benefits.

Need and Use of the Information: The purpose of the Survey of SNAP and Work is to provide FNS and State SNAP agencies with information about the employment patterns and characteristics of nondisabled adult SNAP participants, information not currently collected in the Annual Social and Economic Supplement (ASEC) to the Current Population Survey (CPS) or other available data sets. In addition, the Survey of SNAP and Work will identify health, social, and personal factors that promote or inhibit employment among SNAP participants.

FNS published a notice on Monday, September 30, 2019, in the Federal Register, Volume 84, Number 189, pages 51508-51509, and provided a 60-day period for public comments; there are no changes to this request since this publication of the 60dayFRN. There was a delay to submit this collection due to: (1) The high number of regulations which FNS is trying to issue by the end of the year, each of which includes associated Information Collection Request (ICRs) and (2) COVID-19 rated Emergency ICRs and Guidance Documents which necessitate priority attention.

Description of Respondents: 51 State, Local, and Tribal Government; 88,383 Individuals or Households.

Number of Respondents: 88,434.

Frequency of Responses: Reporting: Once.

Total Burden Hours: 38,569.

Ruth Brown,
Departmental Information Collection Clearance Officer.

[FR Doc. 2020-22531 Filed 10-9-20; 8:45 am]

BILLING CODE 3410-30-P